DEPARTMENT OF TRANSPORTATION

Federal Railroad Administration

49 CFR Part 270

[Docket No. FRA-2011-0060, Notice No. 4]

RIN 2130-AC31

System Safety Program

AGENCY: Federal Railroad Administration (FRA), Department of Transportation.

ACTION: Final rule; stay of regulations.

SUMMARY: On August 12, 2016, FRA published a final rule requiring commuter and intercity passenger railroads to develop and implement a system safety program (SSP) to improve the safety of their operations. See 81 FR 53850. In this document we are issuing a stay of those requirements until March 21, 2017.

DATES: Effective February 10, 2017, 49 CFR part 270 is stayed until March 21, 2017.

FOR FURTHER INFORMATION CONTACT: Matthew Navarrete, Trial Attorney, U.S. Department of Transportation, Federal Railroad Administration, Office of Chief Counsel; telephone: 202-493-0138; email: Matthew.Navarrete@dot.gov.

SUPPLEMENTARY INFORMATION: On August 12, 2016, FRA published a final rule requiring commuter and intercity passenger railroads to develop and implement an SSP to improve the safety of their operations. See 81 FR 53850. In this document we are issuing a stay of those requirements until March 21, 2017 consistent with guidance issued January 20, 2017, intended to provide the new Administration an adequate opportunity to review new and pending regulations.

Authority: 49 U.S.C. 20103, 20106-20107, 20118-20119, 20156, 21301, 21304, 21311; 28 U.S.C. 2461, note; and 49 CFR 1.89.

Issued in Washington, DC, on February 8, 2017.
Patrick T. Warren,
Acting Administrator.

[FR Doc. 2017-02876 Filed 2-10-17; 8:45 am]

BILLING CODE 4910-06-P